DEPARTMENT OF HOMELAND SECURITY

Coast Guard

[Docket Number USCG-2021-0183]

Final Programmatic Environmental Impact Statement for the Expansion and Modernization of Base Seattle

AGENCY: Coast Guard, DHS.

ACTION: Notice of Availability; extension of waiting period for the Final Programmatic Environmental Impact Statement Expansion and Modernization of Base Seattle.

SUMMARY: The Coast Guard is extending the waiting period for the Final Programmatic Environmental Impact Statement (PEIS) for the proposed Expansion and Modernization of Base Seattle. We published a Notice of Availability of the Final PEIS on November 15, 2024. That notice marked the start of a 30-day waiting period. We are extending the wait period. January 10, 2025, is the earliest date that the Coast Guard would issue a final decision.

DATES: The Coast Guard will not issue a final decision on the proposed action until at least January 10, 2025.

ADDRESSES: The complete text of the Final PEIS is available in the docket, which can be found by searching the docket number USCG-2021-0183 using the Federal eRulemaking Portal at https://www.regulations.gov or at https://www.dcms.uscg.mil/NEPA.

FOR FURTHER INFORMATION CONTACT: Requests for additional information should be sent to U.S. Coast Guard, Shore Infrastructure Logistics Center, Environmental Management Division, ATTN: Dean Amundson, 1301 Clay Street, Suite 700N, Oakland, CA 94612-5203; phone 510-637-5541; email BaseSeattlePEIS@uscg.mil.

SUPPLEMENTARY INFORMATION: The Final PEIS was prepared in accordance with the requirements of the National Environmental Policy Act (NEPA), the Council on Environmental Quality regulations implementing NEPA (40 CFR 1500-1508), DHS procedures for implementing NEPA (DHS Instruction Manual 023-01-001-01 (series)), Coast Guard Environmental Planning Policy (Commandant Instruction [COMDTINST] 5090.1), and other applicable DHS and Coast Guard policies and guidance. A Notice of Intent (NOI) to prepare the PEIS was published in the Federal Register on May 7, 2021 (86 FR 24637). On October 11, 2022, the Coast Guard published a Notice of Availability (NOA) and a request for comments on the Draft PEIS (87 FR 61344). In response to a comment in the Docket the Coast Guard extended the Public Comment Period until December 16, 2022, which was announced in the Federal Register (87 FR 73011) and in local newspapers on November 28, 2022.

The NOA for the Final PEIS was published on November 15, 2024, and the original wait period would have concluded on December 16, 2024. The Coast Guard will extend the wait period for the Final PEIS to allow for additional time for public review due to the complexity of the proposed action and the presence of multiple federal holidays during the review period. The Coast Guard will not issue a Record of Decision until after January 10, 2025.

For more detailed information, please see the original notice titled “Final Programmatic Environmental Impact Statement for the Expansion and Modernization of Base Seattle” published on November 15, 2024 (89 FR 90302). A copy of that notice is also available in the docket.

Following the wait period concluding on January 10, 2025, the Coast Guard will announce its Record of Decision, which will be published in the Federal Register.

Dated: December 5, 2024.
A. Grable,
Rear Admiral, U.S. Coast Guard, Assistant Commandant for Engineering and Logistics.

[FR Doc. 2024-29048 Filed 12-10-24; 8:45 am]

BILLING CODE 9110-04-P